DEPARTMENT OF TRANSPORTATION

National Highway Traffic Safety Administration

[Docket No. NHTSA-2024-0054]

Agency Information Collection Activities; Notice and Request for Comment; Limousine Crashworthiness Safety Research

AGENCY: National Highway Traffic Safety Administration (NHTSA), Department of Transportation (DOT).

ACTION: Notice and request for comments on a request for approval of a new collection of information.

SUMMARY: NHTSA invites public comments about our intention to request approval from the Office of Management and Budget (OMB) for a new information collection. Before a Federal agency can collect certain information from the public, it must receive approval from OMB. Under procedures established by the Paperwork Reduction Act of 1995, before seeking OMB approval, Federal agencies must solicit public comment on proposed collections of information, including extensions and reinstatement of previously approved collections. This document describes a collection of information for which NHTSA intends to seek OMB approval on a new information collection to research limousine crash safety.

DATES: Comments must be submitted on or before December 6, 2024.

ADDRESSES: You may submit comments identified by the Docket No. NHTSA-2024-0054 through any of the following methods:

• Electronic submissions: Go to the Federal eRulemaking Portal at http://www.regulations.gov. Follow the online instructions for submitting comments.

• Fax: (202) 493-2251.

• Mail or Hand Delivery: Docket Management, U.S. Department of Transportation, 1200 New Jersey Avenue SE, West Building, Room W12-140, Washington, DC 20590, between 9 a.m. and 5 p.m., Monday through Friday, except on Federal holidays. To be sure someone is there to help you, please call (202) 366-9322 before coming.

Instructions: All submissions must include the agency name and docket number for this notice. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit https://www.transportation.gov/privacy.

Docket: For access to the docket to read background documents or comments received, go to http://www.regulations.gov or the street address listed above. Follow the online instructions for accessing the dockets via internet.

FOR FURTHER INFORMATION CONTACT: For additional information or access to background documents, contact Jason Greb, Structures and Restraints Research Division (NSR-210), (202) 366-3637, National Highway Traffic Safety Administration, W46-443, U.S. Department of Transportation, 1200 New Jersey Avenue SE, Washington, DC 20590.

SUPPLEMENTARY INFORMATION: Under the Paperwork Reduction Act of 1995 (44 U.S.C. 3501 et seq.), before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following: (a) whether the proposed collection of information is necessary for the proper performance of the functions of the agency, including whether the information will have practical utility; (b) the accuracy of the agency's estimate of the burden of the proposed collection of information, including the validity of the methodology and assumptions used; (c) how to enhance the quality, utility, and clarity of the information to be collected; and (d) how to minimize the burden of the collection of information on those who are to respond, including the use of appropriate automated, electronic, mechanical, or other technological collection techniques or other forms of information technology, e.g., permitting electronic submission of responses. In compliance with these requirements, NHTSA asks for public comments on the following proposed collection of information for which the agency is seeking approval from OMB.

Title: Limousine Crashworthiness Safety Research

OMB Control Number: New

Form Number(s): NHTSA Form 1802 Interview Guide—OEM; NHTSA Form 1803 Interview Guide—OEM Program Non-Participant; NHTSA Form 1804 Interview Guide—OEM Program Participant.

Type of Request: New.

Type of Review Requested: Regular.

Requested Expiration Date of Approval: 3 years from date of approval.

Summary of the Collection of Information:

In an effort to understand the limousine market and the characteristics of limousine vehicles with respect to crashworthiness and occupant safety, and to comply with a Congressional mandate, the National Highway Traffic Safety Administration (NHTSA) is seeking approval for a new information collection request (ICR).

Many federal safety regulations (e.g., FMVSS Nos. 207, 208, 209, 210) do not currently apply to limousines and, as a result, the extent of limousine crash safety features and performance is not well known. Furthermore, limousine manufacturers fall into one of three categories (Vehicle Original Equipment Manufacturer [OEM], OEM program participant, and OEM program nonparticipants) and the respective differences of these manufacturer's approach to fabrication and vehicle safety requires targeted research. The proposed NHTSA research approach will consist of one-time voluntary interviews of three groups related to the limousine market: (a) Vehicle Original Equipment Manufacturer [OEM], (b) OEM program participant, and (c) OEM program nonparticipants. The interviews will consist of approximately 10-15 open-ended questions about limousine fabrication intended for reporting on safety characteristics related to evacuation, crashworthiness, occupant seating, and restraints. Three versions of the interview will be used, one for each category of manufacturer. Interview results will be collected and summarized in a final report available for public consumption and the data will help provide NHTSA with data required for necessary cost-benefit analyses prior to potential rulemaking activities.

Description of the Need for the Information and Proposed Use of the Information:

On November 15, 2021, President Biden signed the Infrastructure Investment and Jobs Act (IIJA or the Bipartisan Infrastructure Law), Public Law 117-58. Sections 23015 and 23023 of the Bipartisan Infrastructure Law (BIL) mandated that the Secretary of Transportation, NHTSA through delegation, shall conduct a variety of research and actions including research into the development of motor vehicle safety standards for side impact protection, roof crush resistance, and air bag systems for the protection of occupants in limousines with alternative seating positions—including perimeter seating arrangements, safety features and standards that aid evacuation in the event that an exit in the passenger compartment of a limousine is blocked, and amending FMVSS Nos. 207, 208, 209, and 210 such that they apply to limousines on each designated seating position, including side-facing seats.

This information collection will also aid in any cost-benefit analyses that would be required for promulgating new federal safety regulation and other regulatory alternative considerations under Executive Orders (E.O.) 12866 (Regulatory Planning and Review), 13563 (Improving Regulation and Regulatory Review), and 14094 (Modernizing Regulatory Review), DOT Order 2100.6A and the Department of Transportation's regulatory policies and procedures. Therefore, NHTSA has a need to understand the limousine market and characteristics of limousine vehicles.

Affected Public: This includes selected limousine manufacturers/fabricators which will fall into one of three categories, including Vehicle Original Equipment Manufacturer (OEM), limousine fabricators associated with an OEM limousine program (OEM program participant), and limousine fabricator not associated with an OEM program (OEM program nonparticipants). Participation is voluntary.

Estimated Annual Number of Respondents: 53.

Frequency: Once.

Estimated Annual Burden Hours: 53 hours.

This information collection will consist of interviews conducted across three categories of limousine manufacturers: Vehicle Original Equipment Manufacturer (OEM), OEM program participant, and OEM program nonparticipants. The interviews in this ICR will be one-time responses of limousine manufacturers. For each manufacturer type, the target for minimum number of responses is 10, and then approximately equal distribution of the 11 remaining planned interviews to arrive at a total of a minimum of 41 successful responses. These interviews will take place over the entirety of the information collection (3-year collection period). Respondents in some of the groups may be more difficult for interview completion than others and thus the target maximum respondent outreach of 160 contacts is as follows: the number of interview attempts for a maximum of 20 OEMs will be contacted in total with an annual average of 7 OEMs contacted (greatest expected response rate), a maximum of 40 OEM program participants will be contacted in total with an annual average of 13 OEM program participants contacted (mid-range expected response), and a maximum of 100 OEM program non-participants will be contacted in total with an annual average of 33 OEM program non-participants contacted (these will be the smaller businesses and response rate is expected to be low).

While each interview guide varies slightly, the time to complete the interview is not expected to vary greatly with an average of 60 minutes per interview. While NHTSA and the research team will discontinue the interview process after a minimum of 41 successful responses is complete across a relatively equal distribution of the categories, there is no similar study to calculate response rates nor average completion time of an incomplete response or declined interview. Therefore, for calculation of burden, NHTSA and the research team have used the maximum number of contacts to provide an absolute maximum burden. The table below provides estimated burden costs and hours, both total burden and annual burden. Based on the average interview time from a preliminary round of nine interviews with limousine manufacturers, the time required to complete each interview is expected to be 60 minutes. This results in a total burden to respondents of 160 hours for the entire study and an annual burden of 53 hours.

The database of respondents for limousine manufacturers will be from S&P Global Mobility and their extensive canvasing of the automotive industry. The respondents in each category will be selected at random and given the opportunity to accept or decline the interview before moving on to the subsequent outreach effort.

Estimated Annual Burden Cost: $4,999.

To calculate the labor cost associated with the interviews, NHTSA looked at wage estimates for the type of personnel responding to the interviews. NHTSA estimates the total labor costs associated with these burden hours by looking at the average wage for Marketing/Sales Managers in the United States. The Bureau of Labor Statistics (BLS) estimates that the average hourly wage for Marketing/Sales Managers (BLS Occupation code 11-2020) in the Motor Vehicle Manufacturing Industry is $66.60. The Bureau of Labor Statistics estimates that private industry workers' wages represent 70.6% of total labor compensation costs. Therefore, NHTSA estimates the hourly labor costs to be $94.33 for Marketing/Sales Managers.

NHTSA estimates the total burden cost for the complete study to be $15,093, while the annual burden cost is estimated to be $4,999. Table 1 provides a summary of the estimated burden hours and labor costs associated with those submissions. Note there are slight variations between the total and the annual figures based on rounding.

Table 1—Burden Estimates
Information collection | Number of respondents (total/annual) | Frequency of response | Time (minutes) | Hourly labor cost | Burden hours | Burden costs (rounded)
Interview Guide—OEM (NHTSA Form 1802) | 20 total 7 annual | 1 | 60 | $94.33 | 20 total 7 annual | $1,887 total $660 annual.
Interview Guide—OEM Program Participant (NHTSA Form 1804) | 40 total 13 annual | 1 | 60 | 94.33 | 40 total 13 annual | $,3773 total $1,226 annual.
Interview Guide—OEM Program Non-participant (NHTSA Form 1803) | 100 total 33 annual | 1 | 60 | 94.33 | 100 total 33 annual | $9,433 total $3,113 annual.
Total |  |  |  |  | 160 | $15,093.
Annual |  |  |  |  | 53 | $4,999.

Public Comments Invited: You are asked to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Authority: The Paperwork Reduction Act of 1995; 44 U.S.C. Chapter 35, as amended; 49 CFR 1.49; and DOT Order 1351.29A.

Cem Hatipoglu,
Associate Administrator, Office of Vehicle Safety Research.

[FR Doc. 2024-23135 Filed 10-4-24; 8:45 am]

BILLING CODE 4910-59-P